DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at Federal Register, Vol. 76, No. 75, pp. 21908-21909, dated April 19, 2011, and Vol. 77, No. 140, p. 42740, dated July 20, 2012) is amended to reflect the abolishment of the Office of Public Engagement (OPE). The Offices of Hearings and Inquiries (OHI) was established and reports directly to the Chief Operating Officer (COO).

CMS modified its structure to: (1) Conduct Marketplace eligibility appeals; (2) assist Medicare beneficiaries with complaints, inquiries, and grievances, and to gather the information necessary to file Medicare appeals; and (3) conduct administrative hearings for institutional appeals which fall under the jurisdiction of the Provider Reimbursement Review Board, the Medicare Geographic Classification Review Board, and the CMS Hearings Officers.

The functions in OPE include the Medicare Ombudsman, tribal affairs, and emergency preparedness and continuity of operations. The Medicare Ombudsman was moved to OHI, tribal affairs was moved to the Center for Medicaid and CHIP Services (CMCS), and emergency preparedness and continuity of operations was moved to the Consortium for Quality Improvement and Survey & Certification Operations (CQISCO). In addition, the Office of Marketplace Eligibility Appeals was established in OHI, and the Office of Hearings was moved from the Office of Operations Management (OOM) to OHI.

Part F., Section FC. 10 (Organization) is revised as follows:

Office of the Administrator (FC)

Office of Equal Opportunity and Civil Rights (FCA)

Office of Legislation (FCC)

Office of the Actuary (FCE)

Office of Strategic Operations and Regulatory Affairs (FCF)

Center for Clinical Standards and Quality (FCG)

Center for Medicare (FCH)

Center for Medicaid and CHIP Services (FCJ)

Center for Strategic Planning (FCK)

Center for Program Integrity (FCL)

Chief Operating Officer (FCM)

Office of Minority Health (FCN)

Center for Medicare and Medicaid Innovation (FCP)

Federal Coordinated Health Care Office (FCQ)

Center for Consumer Information and Insurance Oversight (FCR)

Office of Communications (FCT)

Delegations of Authority

All delegations and re-delegations of authority made to officials and employees of affected organizational components will continue in them or their successor organization pending further re-delegation, provided they are consistent with the movement of functions.

Authority: 44 U.S.C. 3101.

Dated: December 24, 2013.
Marilyn Tavenner,
Administrator, Centers for Medicare & Medicaid Services.

[FR Doc. 2013-31206 Filed 1-2-14; 8:45 am]

BILLING CODE 4120-01-P